ENVIRONMENTAL PROTECTION AGENCY

[OH137-1a; FRL-6705-3]

Adequacy Status of Cincinnati, Ohio Submitted Ozone Maintenance Plan Budgets for Transportation Conformity Purposes

AGENCY: Environmental Protection Agency (EPA).

ACTION: Notice of adequacy.

SUMMARY: In this document, EPA is notifying the public that EPA has found that the motor vehicle emissions budgets in the Cincinnati, Ohio ozone maintenance plan submitted on December 22, 1999, are adequate for conformity purposes. On March 2, 1999, the D.C. Circuit Court ruled that submitted State Implementation Plans (SIPs) cannot be used for conformity determinations until EPA has affirmatively found them adequate. As a result of our finding, Cincinnati can use the motor vehicle emissions budgets for the year 2010 from the submitted ozone maintenance plan for future conformity determinations. These budgets are effective June 12, 2000.

FOR FURTHER INFORMATION CONTACT: The finding and the response to comments already received will be available at EPA's conformity website: http://www.epa.gov/oms/traq, (once there, click on the “Conformity” button, then look for “Adequacy Review of SIP Submissions for Conformity”).

Patricia Morris, Environmental Scientist, Regulation Development Section (AR-18J), Air Programs Branch, Air and Radiation Division, United States Environmental Protection Agency, Region 5, 77 West Jackson Boulevard, Chicago, Illinois 60604, (312) 353-8656, morris.patricia@epa.gov.

SUPPLEMENTARY INFORMATION:

Background

Throughout this document, whenever “we,” “us” or “our” is used, we mean EPA. Today's document is simply an announcement of a finding that we have already made. EPA Region 5 sent a letter to the Ohio Environmental Protection Agency on April 27, 2000, stating that the motor vehicle emissions budgets in the Cincinnati, Ohio submitted ozone maintenance plan for 2010 are adequate. This finding will also be announced on EPA's conformity website: http://www.epa.gov/oms/traq, (once there, click on the “Conformity” button, then look for “Adequacy Review of SIP Submissions for Conformity”).

Transportation conformity is required by section 176(c) of the Clean Air Act. EPA's conformity rule requires that transportation plans, programs, and projects conform to state air quality implementation plans and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We've described our process for determining the adequacy of submitted SIP budgets in guidance (May 14, 1999 memo titled “Conformity Guidance on Implementation of March 2, 1999 Conformity Court Decision”). We followed this guidance in making our adequacy determination.

Authority: 42 U.S.C. 7401-7671q.

Dated: May 5, 2000.
Norman Niedergang,
Acting Regional Administrator, Region 5.

[FR Doc. 00-13203 Filed 5-25-00; 8:45 am]

BILLING CODE 6560-50-P